FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 012304-001.

Title: Hanjin/UASC/CMA CGM/CSCL Vessel Sharing and Slot Charter Agreement.

Parties: Hanjin Shipping Co., Ltd.; United Arab Shipping Co, S.A.G.; CMA CGM S.A.; and China Shipping Container Lines Co., Ltd. and China Shipping Container Lines (Hong Kong) Co., Ltd. (collectively “CSCL”).

Filing Party: Brett M. Esber, Esq., Blank Rome LLP, Watergate, 600 New Hampshire Ave. NW., Washington, DC 20037.

Synopsis: The amendment would replace CSCL with COSCO Container Lines Company, Ltd. as a party to the agreement. The parties have requested Expedited Review.

Agreement No.: 012388.

Title: Hyundai Glovis/Hoegh Mexico Space Charter Agreement.

Parties: Hoegh Autoliners AS and Hyundai Glovis Co. Ltd.

Filing Party: Wayne Rohde, Cozen O'Connor, 1200 Nineteenth Street NW., Washington, DC 20036.

Synopsis: The agreement authorizes the parties to charter space to/from one another in the trade between the U.S. and Mexico.

Agreement No.: 201203-005.

Title: Port of Oakland/Oakland Marine Terminal Operator Agreement.

Parties: Ports America Outer Harbor Terminal, LLC, Port of Oakland, Seaside Transportation Service LLC, SSA Terminals (Oakland), LLC, SSA Terminals, LLC, and Trapac, Inc.

Filing Party: Wayne Rohde, Esq., Cozen O'Connor, 1627 I Street NW., Suite 1100, Washington, DC 20006.

Synopsis: The amendment would delete Seaside Transportation Service LLC as a party to the agreement and add Everport Terminals Service, Inc.

Agreement No.: 201228-001.

Title: Port of Seattle/Port of Tacoma Alliance Agreement.

Parties: Port of Seattle and Port of Tacoma.

Filing Party: Thomas H. Tanaka, Senior Port Counsel; Port of Seattle; 2711 Alaskan Way, Seattle, WA 98121; and Carolyn Lake, Port General Legal Counsel; Port of Tacoma; 501 South G Street, Tacoma, WA 98405.

Synopsis: The amendment would incorporate by reference the Interlocal Agreement that created the Northwest Seaport Alliance and the charter for the alliance.

Agreement No.: 012389.

Title: Grimaldi/Liberty Global Logistics LLC Space Charter Agreement.

Parties: Grimaldi Euromed S.P.A and Liberty Global Logistics LLC.

Filing Parties: Brooke Shapiro, Esq., Winston & Strawn LLP, 200 Park Avenue, New York, NY 10166.

Synopsis: The agreement authorizes the parties to charter space to/from one another in the trade between the U.S. on the one hand and Europe, the Mediterranean, Red Sea and Persian Gulf on the other hand.

By Order of the Federal Maritime Commission.
Dated: February 5, 2016.
Rachel E. Dickon,
Assistant Secretary.

[FR Doc. 2016-02684 Filed 2-9-16; 8:45 am]

BILLING CODE 6730-01-P